ENVIRONMENTAL PROTECTION AGENCY

[EPA-HQ-OGC-2020-0020; FRL-10569-01-OGC]

Proposed Information Collection Request; Comment Request; Renewal of Existing Information Collection Request for Confidential Business Information Substantiation

AGENCY: Environmental Protection Agency (EPA).

ACTION: Notice.

SUMMARY: The Environmental Protection Agency (EPA) is planning to submit an information collection request (ICR), “Renewal of Existing Information Collection Request for Confidential Business Information Substantiation” (EPA ICR No. 1665.15, OMB Control No. 2020-0003) to the Office of Management and Budget (OMB) for review and approval in accordance with the Paperwork Reduction Act (PRA). Before doing so, EPA is soliciting public comments on specific aspects of the proposed information collection as described below. This is a proposed extension of the ICR, which is currently approved through September 20, 2023. An Agency may not conduct or sponsor and a person is not required to respond to a collection of information unless it displays a currently valid OMB control number.

DATES: Comments must be submitted on or before March 27, 2023.

ADDRESSES: Submit your comments, referencing Docket ID No. EPA-HQ-OGC-2020-0020 online using www.regulations.gov (our preferred method), by email to hq.foia@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Brandon A. Levine, Office of General Counsel, (2310A), Environmental Protection Agency, 1200 Pennsylvania Ave. NW, Washington, DC 20460; telephone number: 202-564-6625; email address: levine.brandon@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA (44 U.S.C. 3501 et seq.), EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA established the requirements set forth in 40 CFR part 2, subpart B, “Confidentiality of Business Information.” The requirements govern CBI claims. The requirements include the handling by the Agency of business information, which is or may be entitled to confidential treatment; requiring business submitters to substantiate CBI claims; and determining whether such information is entitled to confidential treatment for reasons of business confidentiality. This request to renew an existing ICR allows the Agency to continue collecting information the Agency requires to make final determinations regarding whether information claimed as confidential is entitled to confidential treatment under EPA's CBI regulations.

Form Numbers: None.

Respondents/affected entities: Respondents include any entity submitting information claimed as CBI to EPA. EPA receives such information from both the manufacturing (SIC codes 20-39) and non-manufacturing sectors (no SIC codes identified).

Respondent's obligation to respond: Voluntary and mandatory.

Estimated number of respondents: 225 (per year) (total).

Frequency of response: One-time submission for information claimed as CBI.

Total estimated burden: 3,217.5 hours (per year). Burden is defined at 5 CFR 1320.03(b).

Total estimated cost: $1,287,000 (per year), includes $0 annualized capital or operation & maintenance costs.

Changes in Estimates: There is an increase of 2,465.1 hours in the total estimated respondent burden compared with the ICR currently approved by OMB. Since the last ICR renewal, the Agency has experienced a modest increase in the number of respondents. Additionally, after consulting with a sample of respondent businesses (or respective outside counsels), EPA determined the average estimated burden for each response has increased compared with the ICR currently approved by OMB. Calculating the burden for responding to a substantiation request letter is fact-specific, and the burden can vary based on the following factors: a respondent's familiarity with recent changes in the applicable law, the volume and complexity of the CBI claims asserted, and/or familiarity with the CBI substantiation request letters and substantiation process. As part of consulting with respondent businesses, EPA received burden estimates ranging from as few as 5 hours to as many as nearly 40 hours to substantiate varying amounts of CBI claims. The average estimated burden across the responses that the Agency received is approximately 14.3 hours per response. The median estimated burden is approximately 10 hours per response. For purposes of this ICR renewal, the Agency calculated the estimated burden using the average.

Charlotte Youngblood,
Acting Associate General Counsel.

[FR Doc. 2023-01411 Filed 1-24-23; 8:45 am]

BILLING CODE 6560-50-P